DEPARTMENT OF VETERANS AFFAIRS

VA Claims Processing Task Force; Notice of Meeting

The Department of Veterans Affairs (VA) gives notice under Public Law 92-463 that an open meeting of the VA Claims Processing Task Force will take place on Wednesday, October 3, 2001. The meeting will take place in Room 230 at the VA Central Office, 810 Vermont Avenue, NW., Washington, DC 20420.

The purpose of the Task Force is to provide the Secretary of Veterans Affairs with recommendations to reduce claims processing time and shrink the claims backlog without compromising either the accuracy of decisions or service to veterans.

The October 3, 2001, meeting will convene at 8 a.m. and adjourn after the Task Force has completed discussion on potential recommendations that may improve VA's ability to process claims. The meeting is open to the public and interested persons are advised that there will be no time made available for public comment.

Persons who wish to provide written comment to the Task Force should ensure that their remarks are delivered to Mr. John O'Hara, Designated Federal Official, VA Claims Processing Task Force, c/o VA Office of Policy and Planning, Department of Veterans Affairs, 810 Vermont Avenue, NW. (008), Washington, DC 20420 not later than close of business, Tuesday, October 2, 2001.

Dated: September 17, 2001.
By direction of the Secretary.
Nora E. Egan,
Committee Management Officer.

[FR Doc. 01-23799 Filed 9-21-01; 8:45 am]

BILLING CODE 8320-01-M